DEPARTMENT OF JUSTICE

Notice of Lodging of Consent Decree Under the Comprehensive Environmental Response, Compensation, and Liability Act and the Federal Debt Collections Procedures Act

Notice is hereby given that on December 7, 2007, a proposed Consent Decree in United States v. Daniel Green, et. al., Civil Action No. 1:00-cv-637 was lodged with the United States District Court for the Southern District of Ohio.

In this action the United States sought reimbursement of response costs incurred for response actions taken at or in connection with the release or threatened release of hazardous substances at the Green Industries Site in Sharonville, Ohio (“the Site”) pursuant to Section 107(a) of the Comprehensive Environmental Response, Compensation and Liability Act (“CERLA”), 42 U.S.C. 9607(a). Additionally, the United States sought to void the transfer of certain real property from defendant LWG Co., Inc. (“LWG”) to Omni Industrial Properties Inc. (“OMNI”) as a fraudulent transfer under Section 3304(b) of the Federal Debt Collection Procedures Act (“FDCPA”), 28 U.S.C. 3304(b), to provide partial satisfaction of response costs owed by LWG under CERCLA. The Consent Decree resolves the United States' claims against defendant LWG on an inability to pay basis. Resolution of claims against LWG terminates the need for inclusion of Omni in this matter as a Rule 19 defendant. Although, LWG is currently dissolved and without assets available to satisfy its CERCLA liability, under the proposed Consent Decree Omni will pay $218,250, approximately one-half of the available equity in the subject property, on behalf of LWG.

The Department of Justice will receive for a period of thirty (30) days from the date of this publication comments relating to the Consent Decree. Comments should be addressed to the Assistant Attorney General, Environment and Natural Resources Division, and either e-mailed to pubcomment-ees.enrd@usdoj.gov or mailed to P.O. Box 7611, U.S. Department of Justice, Washington, DC 20044-7611, and should refer to United States v. Daniel Green, et. al., D.J. Ref. 90-11-2-06906.

The Consent Decree may be examined at the Office of the United States Attorney, 221 East Fourth Street, Suite 400, Cincinnati, Ohio and at U.S. EPA Region 5, 77 West Jackson Blvd., Chicago, Illinois. During the public comment period, the Consent Decree, may also be examined on the following Department of Justice Web site: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $3.75 (25 cents per page reproduction cost) payable to the U.S. Treasury or, if by e-mail or fax, forward a check in that amount to the Consent Decree Library at the stated address.

William D. Brighton,
Assistant Chief, Environmental Enforcement Section, Environment and Natural Resources Division.

[FR Doc. 07-6105 Filed 12-19-07; 8:45 am]

BILLING CODE 4410-15-M